ENVIRONMENTAL PROTECTION AGENCY

40 CFR Part 49

[EPA-R09-OAR-2009-0598; FRL-8964-2]

Assessment of Anticipated Visibility Improvements at Surrounding Class I Areas and Cost Effectiveness of Best Available Retrofit Technology for Four Corners Power Plant and Navajo Generating Station: Advanced Notice of Proposed Rulemaking

AGENCY: Environmental Protection Agency (EPA).

ACTION: Notice of extension of comment period.

SUMMARY: EPA is announcing an extension of the public comment period on our Advanced Notice of Proposed Rulemaking (ANPR) regarding our assessment of anticipated visibility improvements at surrounding Class I areas and the cost effectiveness of Best Available Retrofit Technology (BART) for Four Corners Power Plant and Navajo Generating Station (August 28, 2009). Through this notice, EPA extends the close of the ANPR comment period from September 28, 2009 until October 28, 2009.

EPA is extending the comment period as a result of requests from the Hopi Tribe and the Navajo Nation for additional time to comment on the ANPR. EPA is granting the requests from the Hopi Tribe and the Navajo Nation notwithstanding the earlier denials by EPA of several extension requests made by other stakeholders. The basis for those earlier denials is that the ANPR is not a rulemaking action and therefore does not make any decisions or propose any control options as BART. Additionally, the ANPR is limited in scope and focused only on variables that were used to model visibility improvement at the surrounding Class I areas and the cost effectiveness of different control options. Therefore, EPA determined that a 30-day comment period in advance of our actual proposal was adequate, as the ANPR by itself only seeks the submittal of information. However, because the Hopi Tribe and the Navajo Nation are affected tribes located in the area impacted by the Navajo Generating Station and Four Corners Power Plant, EPA is extending the comment period to provide greater opportunity for discussion between EPA and affected Tribes. EPA is also extending the public comment period for all other interested parties.

Although the Hopi Tribe and the Navajo Nation requested a longer extension period, EPA believes a 30-day extension is sufficient, as there will be ample additional opportunity to provide comments once we propose our BART determinations for the Four Corners Power Plant and Navajo Generating Station in the near future.

DATES: The comment period for the Advanced Notice of Proposed Rulemaking published at 74 FR 44313, August 28, 2009 is extended. Comments must be received on or before October 28, 2009.

ADDRESSES: Submit comments, identified by docket number EPA-R09-OAR-2009-0598, by one of the following methods:

1. Federal eRulemaking Portal: www.regulations.gov. Follow the on-line instructions.

2. E-mail: lee.anita@epa.gov.

3. Mail or deliver: Anita Lee (Air-3), U.S. Environmental Protection Agency Region IX, 75 Hawthorne Street, San Francisco, CA 94105-3901.

Instructions: All comments will be included in the public docket without change and may be made available online at www.regulations.gov, including any personal information provided, unless the comment includes Confidential Business Information (CBI) or other information whose disclosure is restricted by statute. Information that you consider CBI or otherwise protected should be clearly identified as such and should not be submitted through www.regulations.gov or e-mail. www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: The index to the docket for this ANPR is available electronically at www.regulations.gov and in hard copy at EPA Region IX, 75 Hawthorne Street, San Francisco, California. While all documents in the docket are listed in the index, some information may be publicly available only at the hard copy location (e.g., copyrighted material), and some may not be publicly available in either location (e.g., CBI). To inspect the hard copy materials, please schedule an appointment during normal business hours with the contact listed in the FOR FURTHER INFORMATION CONTACT section.

FOR FURTHER INFORMATION CONTACT: Anita Lee, EPA Region IX, (415) 972-3958, lee.anita@epa.gov.

SUPPLEMENTARY INFORMATION: Throughout this document, “we”, “us”, and “our” refer to EPA.

I. General Information

A. What Should I Consider as I Prepare My Comments for EPA?

1. Submitting CBI. Do not submit this information to EPA through http://www.regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for Preparing Your Comments. When submitting comments, remember to:

• Identify this ANPR by docket number and other identifying information (subject heading, Federal Register date and page number).

• Explain why you agree or disagree; suggest alternatives and substitute language for your requested changes.

• Describe any assumptions and provide any technical information and/or data that you used.

• If you estimate potential costs or burdens, explain how you arrived at your estimate in sufficient detail to allow for it to be reproduced.

• Provide specific examples to illustrate your concerns, and suggest alternatives.

• Explain your views as clearly as possible, avoiding the use of profanity or personal threats.

• Make sure to submit your comments by the comment period deadline identified.

B. Where Can I Get a Copy of This Document and Other Related Information?

In addition to being available in the docket, an electronic copy of the Advanced Notice of Proposed Rulemaking is available at http://www.epa.gov/region09/air/navajo/index.html#upcoming. Following signature by the EPA Regional Administrator, a copy of this extension notice will be posted at the same Web site.

Authority: 42 U.S.C. 7401 et seq.

Dated: September 22, 2009.
Jane Diamond,
Acting Regional Administrator, Region IX.

[FR Doc. E9-23633 Filed 9-29-09; 8:45 am]

BILLING CODE 6560-50-P